DEPARTMENT OF THE INTERIOR

Bureau of Reclamation

South Coast Conduit Secondary Pipeline, Santa Barbara County, California

AGENCY: Bureau of Reclamation, Interior.

ACTION: Notice of Intent to prepare an environmental impact statement/environmental impact report (EIS/EIR).

SUMMARY: The Bureau of Reclamation (Reclamation) and the Cachuma Operation and Maintenance Board (COMB) are planning to prepare a combined EIS/EIR for the proposed construction of a second pipeline adjacent to the South Coast Conduit (SCC) between the South Portal of the Tecolote Tunnel (SPTT) and the Corona Del Mar Water Treatment Plant (CDMWTP) for the purposes of increasing the operational flexibility, reliability, and the conveyance capacity of the SCC, accommodating peak demand levels, and allowing maintenance of the pipeline.

The project site is located in Glen Annie Canyon, north of the City of Goleta, in Santa Barbara County, California. The project site encompasses the area surrounding the existing SCC between the SPTT and the CDMWTP.

DATES: Reclamation and COMB will hold a scoping meeting to seek public input on topics, issues, and alternatives to be considered in the EIS/EIR. The scoping meeting will be held on May 17, 2007 from 7 p.m. to 9 p.m. in Santa Barbara, California.

Send written comments on the scope of alternatives and impacts to be considered to Mrs. Laura Myers at the below address by close of business Friday, June 15, 2007

ADDRESSES: The scoping meeting will be held at the COMB office, 3301 Laurel Canyon Road, Santa Barbara, California.

Send written comments on the scope of the EIS/EIR to Mrs. Laura Myers, Bureau of Reclamation, 1243 N Street, Fresno, California 93721.

FOR FURTHER INFORMATION CONTACT: Mrs. Laura Myers, Reclamation, at the above address, (559) 487-5179 or Mr. Brett Gray, Cachuma Operations and Maintenance Board, 3301 Laurel Canyon Road, Santa Barbara, CA 93105-2017; telephone: (805) 687-4011, fax: (805) 569-5825.

SUPPLEMENTARY INFORMATION: The increase in operational flexibility, reliability, and capacity are intended to accommodate peak demand levels and to allow maintenance of the pipeline. The limitations and age of the original equipment, significant system modifications, and increased demands constrain the ability of the SCC to function at the system's original design capacity. Because of these limitations, COMB is forced to rely on water stored in Lauro, Ortega, and Carpinteria reservoirs to meet regional water needs. In addition, no redundant supply or pipeline exists to convey Cachuma Project water or State Water Project (SWP) water to the South Coast if the Tecolote Tunnel or the Upper Reach of the SCC is out of service due to scheduled and/or unexpected repairs.

As the Upper Reach of the SCC has the largest demand deficit and is located upstream from the sources of demand, the proposed action would allow more water flow farther along the pipeline to improve the level of service and reliability. The proposed action would also provide COMB the ability to perform regularly scheduled inspections and maintenance to one pipeline while the second is operational. Operational flexibility would increase due to the ability to provide higher flow rates to CDMWTP and increased flow rates to facilities downstream of the CDMWTP during times of peak demands. The total amount of water delivered per year, however, would not increase.

Potential alternatives include different alignments of the pipeline which would still meet the purpose and need, as well as pumping structures and or disinfection facilities. A no action alternative would include construction of site improvements and operational activities that could occur without issuance of Federal permits.

The EIS/EIR will evaluate the potential impacts of the project on Indian Trust Assets (ITAs), which are held in trust by the U.S. Government for Indian Tribes or individual Tribal members. Potential ITAs include water rights, lands, minerals (i.e., oil, gas, sand), and hunting and fishing rights.

If special assistance is required for these meetings, please contact Mrs. Laura Myers at (559) 487-5179. Please notify Mrs. Myers as far in advance of the meeting as possible to allow Reclamation to secure the needed services. If a request cannot be honored, the requester will be notified. A telephone device for the hearing impaired (TDD) is available at 916-978-5608.

Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: April 4, 2007.
Robert Eckart,
Acting Regional Environmental Officer, Mid-Pacific Region.

[FR Doc. E7-6747 Filed 4-9-07; 8:45 am]

BILLING CODE 4310-MN-P